DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of June 2002.

In order for an affirmative determination to be made and a certification of eligibility to apply for worker adjustment assistance to be issued, each of the group eligibility requirements of Section 222 of the Act must be met.

(1) That a significant number or proportion of the workers in the workers' firm, or an appropriate subdivision thereof, have become totally or partially separated,

(2) That sales or production, or both, of the firm or subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-40,953; R.R. Donnelley and Sons Co., Premedia Div., Lynchburg, VA

TA-W-40,643; Robbins Hardwood Flooring, Inc., Witt Plant, Warren, AR

TA-W-41,119; A.D.A. Machinery Corp., Warren, OH

TA-W-41,125; Dillon Yarn Corp., Dillon, SC

TA-W-41,261; Dayton Pattern, Inc., Dayton, OH

TA-W-41,319; Groupe Carbone Lorraine, Astro Cosmos Metallurgical, Inc., Wooster, OH

TA-W-40,723; F.C. Meyer Packaging Co., Franklin Carton Div., a Div. of Mafcote Industries, Inc., St. Louis, MO

TA-W-40,755; Crompton Corp., Formerly Known as Uniforyal Chemical Div., Naugatuck, CT

TA-W-40,944; Zeeland Chemical Div., of Cambrex Corp., Zeeland, MI

TA-W-40,290 & A; Cascade Tissue Group, Formerly Plainwell Tissue, Pittston Township, PA and Ranson, PA

TA-W-41,062; Palmetto Loom Reed Co., Greenville, SC

TA-W-41,107; Trinity Industries, Plant 40, Girard, OH

TA-W-41,275; F.H. Stoltze Land and Lumber Co., Stoltze Aspen Mills Div., Siguird, UT

In the following cases, the investigation revealed that the criteria for eligibility have not been met for the reasons specified.

The workers firm does not produce an article as required for certification under Section 222 of the Trade Act of 1974.

TA-W-41,198; Starlo Fashions, North Bergen, NJ

The investigation revealed that criteria (1) has not been met. A Significant number or proportion of the workers did not become totally or partially separated from employment as required for certification.

TA-W-41,177; Dana Corp., Victor Reinz Div., Robinson, IL

Increased imports did not contribute importantly to worker separations at the firm.

TA-W-40,146; Scottsboro Aluminum LLC, Scottsboro, AL

TA-W-40,668; Ram Fabricating Corp., Athens, TN

TA-W-39,839; BMP America, Inc., A Subsidiary of Andrew Industries, Ltd, Portland, OR

TA-W-41,012; Sensormatic Electronics Corp., Boca Raton, FL

TA-W-41,035; Imerys Pigments and Additives Group, Dry Branch, GA

TA-W-40,707; AG Simpson Automotive Systems, Sterling Heights, MI

Affirmative Determinations for Worker Adjustment Assistance

The following certifications have been issued; the date following the company name and location of each determination references the impact date for all workers of such determination.

TA-W-41,546; Classic Knitting Mills, Inc., Greensboro, NC: May 6, 2001.

TA-W-41,326; U.S. Electrical Motors, Philadelphia, MS: March 11, 2002.

TA-W-40,544; Tyco Printed Circuit Group, A Div. Of Tyco International Ltd, Dallas, OR: December 17, 2000.

TA-W-41,337 & A; Quantum Corp., DLT & Storage Systems Group, Colorado Springs, CO and Shrewsbury, MA: May 19, 2002.

TA-W-40,352; Barker Microfarads, Inc., Hillsville, VA: October 26, 2000.

TA-W-40,079 & A; Zilog, Inc., Probe Manufacturing, Nampa, ID and Mod III Manufacturing, Nampa, ID: August 31, 2001.

TA-W-41,355; Fourply, Inc., Plywood Div., Grants Pass, OR: March 8, 2001.

TA-W-40,327; Meadwestvaco, Rumford, ME: March 22, 2001.

TA-W-41,156; London Harness and Cable, Trenton, NJ: January 13, 2001.

TA-W-41,114; Tyco Electronics, Stockton, CA: March 6, 2001.

TA-W-41,093; Greenwood Mills, Durst Plant, Greenwood, SC: December 18, 2000.

TA-W-41,067; SCP Global Technologies, Inc., Boise, ID: February 1, 2001.

TA-W-41,058; Elsevier Science Formerly Harcourt Health Sciences, Typesetting Department, Philadelphia, PA: February 1, 2001.

TA-W-41,038; Murray, Inc., McKenzie, TN: February 7, 2001.

TA-W-41,036; Wiggins Lumber Co., Wiggins, MS: November 16, 2000.

TA-W-41,025; Bombardier Transportation (Holdings), USA, Inc., Pittsburgh, PA: February 6, 2001.

TA-W-40,977; La La Imports, LP, El Paso, TX: January 4, 2001.

TA-W-40,925; BH Electronics, Inc., Marshall, MN: January 29, 2001.

TA-W-40,918; Fellows Corp., A Div. Of Goldman Industries Group, North Springfield, VT: January 21, 2001.

TA-W-40,871; TRW Aeronautical Systems, Lucas Aerospace, Aurora, OH: December 7, 2000.

TA-W-40,764; Fit Rite Headwear, Inc., Wilkes Barre, PA: October 30, 2000.

TA-W-40,578; Graphic Arts, Inc., Philadelphia, PA: November 27, 2000.

TA-W-40,171; Valmont Industries and Herman Schwabe, Inc., Hazelton, PA: September 18, 2000.

TA-W-40,711; Carolina Glove Co., Wilkes Plant, Conover, NC: January 9, 2001.

TA-W-40,675; Titan Plastics Group, Formerly Plastic Engineered Components, Formerly Golden Triangle Plastic, El Paso Division, El Paso TX: December 17, 2000.

TA-W-40,615; Emerson Electronic Connector and Components Co., Waseca, MN: November 29, 2000.

TA-W-39,904; Tiffany Lincoln Textiles, New York, NY: August 13, 2000.

TA-W-39,677 & A; Concord Fabrics, Inc., Knitted Fabrics Div., Milledgeville, GA and Concord House Div., New York, NY: July 6, 2000.

TA-W-41,117; Canto Tool Corp., Meadville, PA: February 8, 2001.

TA-W-41,047; C.G. Bretting Manufacturing Corp., Inc., Ashland, WI: February 14, 2001.

TA-W-40,987; Globe Metallurgical, Inc., Niagara Falls, NY: February 26, 2001.

TA-W-40,969; Paramount Headwear, Inc., Bourbon, MO: October 9, 2001.

TA-W-40,877; ESP/Jocassee Trading Co., Easley, SC: September 24, 2000.

TA-W-40,826; Lee Mah Electronics, Inc., San Francisco, CA: November 30, 2000.

TA-W-41,492; Keystone Tool and Machine, Inc., Carlisle, PA: April 16, 2001.

TA-W-41,304; Alcatel, Optical Fiber Div., Claremont, NC: March 6, 2001.

TA-W-41,317; Metso Minerals Industries, Inc., Formerly Svedala Industries, Appleton, WI: March 4, 2001.

TA-W-41,221; Walls Industries, Inc., Cleburne, TX: March 11, 2001.

TA-W-41,253; Metso Minerals Industries, Inc., Formerly Svedala Industries, Birmingham, AL: February 12, 2001.

Also, pursuant to Title V of the North American Free Trade Agreement Implementation Act (Pub. L. 103-182) concerning transitional adjustment assistance hereinafter called (NAFTA-TAA) and in accordance with section 250(a), Subchapter D, Chapter 2, Title II, of the Trade Act as amended, the Department of Labor presents summaries of determinations regarding eligibility to apply for NAFTA-TAA issued during the month of June, 2002.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increased imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-06197; PW Pipe, Hillsboro, OR

NAFTA-TAA-06145; Execumold, Inc., (Currently located at Fairview, Pennsylvania), Erie, PA

NAFTA-TAA-06137; Keystone Tool and Machine, Inc., Carlisle, PA

NAFTA-TAA-06093; RHO Industries, Inc., Buffalo, NY

NAFTA-TAA-06084; Pohlman Foundry Co., Inc., Buffalo, NY

NAFTA-TAA-06012; Dayton Pattern, Inc., Dayton, OH

NAFTA-TAA-05935; Metso Minerals Industries, Inc., Formerly Svedala Industries, Birmingham, AL

NAFTA-TAA-05889; Trailmobile Trailer, LLC, Charleston, IL

NAFTA-TAA-05875; C.G. Bretting Manufacturing Corp., Inc., Ashland, WI

NAFTA-TAA-05837; Canto Tool Corp., Meadville, PA

NAFTA-TAA-05823; Lee Mah Electronics, Inc., San Francisco, CA

NAFTA-TAA-05821; BH Electronics, Marshall, MN

NAFTA-TAA-05797; Englehard Corp., McIntyre, GA

NAFTA-TAA-05771; Dillon Yarn Corp., Dillon, SC

NAFTA-TAA-05743; Zeeland Chemical, Div. of Cambrex Corp., Zeeland, MI

NAFTA-TAA-05690; Titan Plastics Group, Formerly Plastic Engineered Components, Formerly Golden Triangle Plastic, El Paso Div., El Paso, TX

NAFTA-TAA-5680; F.C. Meyer Packaging Co., Franklin Carton Div., a Div. of Mafcote Industries, Inc., St. Louis, MO

NAFTA-TAA-05413 & A; Cascade Tissue Group, Formerly Plainwell Tissue, Pittston Township, PA and Ranson, PA

NAFTA-TAA-05108; Ryan Engineering and Design Co., Inc., Pellston, MI

NAFTA-TAA-5277 & A; Zilog, Inc., Probe Manufacturing, Nampa, ID and Mod III Manufacturing, Nampa, ID

NAFTA-TAA-05528; Robbins Hardwood Flooring, Inc., Witt Plant, Warren, AR

NAFTA-TAA-05777; R.R. Donnelley and Sons Co., Premedia Div., Lynchburg, VA

The investigation revealed that the criteria for eligibility have not been met for the reasons specified.

The investigation revealed that workers of the subject firm did not produce an article within the meaning of section 250(a) of the Trade Act, as amended.

NAFTA-TAA-05816; Mitel Networks Corp., Network Access Solutions, Ogdensburg, NY

Affirmative Determinations NAFTA-TAA

NAFTA-TAA-05780; AG Simpson Automotive Systems, Sterling Heights, MI: January 23, 2001

NAFTA-TAA-05857; Tyco Printed Circuit Group, A Div. Of Tyco International Ltd, Dallas, OR: January 31, 2001.

NAFTA-TAA-06082; Pleatz LLC, New York, NY: August 10, 2001.

NAFTA-TAA-05614; Emerson Electronic Connector and Components Co., Waseca, MN: November 29, 2000.

NAFTA-TAA-05679; Biokyowa, Inc., A Subsidiary of Kyowa Hakko Kogyo, Ltd, Cape Girardeau, MO: December 12, 2000.

NAFTA-TAA-05774; Xpectra, Inc., Santa Cruz Div., Santa Cruz, CA: January 2, 2001.

NAFTA-TAA-5936; Metso Minerals Industries, Inc., Formerly Svedala Industries, Appleton, WI: March 4, 2001.

NAFTA-TAA-05973; Xerox Corp., Electronics Delivery Unit, El Segundo, CA: March 11, 2001.

NAFTA-TAA-06040; Warnaco, Calvin Klein Jeans Div., Nesquehoning, PA: March 28, 2001.

NAFTA-TAA-06065; American Tramways, Inc., A Div. Of Doppelmayr CTEC, Inc., Watertown, NY: October 1, 2000.

NAFTA-TAA-06086; Scapa Tapes North America, A Div. Of Scapa Group PLC, Watertown, NY: July 30, 2000.

NAFTA-TAA-06116; Signal Transformer Co., Inc., Inwood, NY: November 9, 2000.

NAFTA-TAA-06146; Springs Window Fashions, LP, Montgomery, PA: April 12, 2001.

NAFTA-TAA-06186; Emerson Process Management, Rosemount Analytical, Inc., Anaheim, CA: May 10, 2001.

NAFTA-TAA-06192; LNP Engineering Plastics, Inc., Santa Ana, CA: May 7, 2001.

NAFTA-TAA-06229; Insilco Technologies, ITG Global, Hiddenite, NC: May 13, 2001.

I hereby certify that the aforementioned determinations were issued during the month of June, 2002. Copies of these determinations are available for inspection in Room C-5311, U.S. Department of Labor, 200 Constitution Avenue, NW., Washington, DC 20210 during normal business hours or will be mailed to persons who write to the above address.

Dated: July 2, 2002.
Edward A. Tomchick,
Director, Division of Trade Adjustment Assistance.

[FR Doc. 02-17146 Filed 7-8-02; 8:45 am]

BILLING CODE 4510-30-P